OFFICE OF PERSONNEL MANAGEMENT

5 CFR Part 950

[3206-AL47]

Solicitation of Federal Civilian and Uniformed Service Personnel for Contributions to Private Voluntary Organizations—Eligibility and Public Accountability Standards

ACTION: Final rule, technical amendments.

SUMMARY: The U.S. Office of Personnel Management (OPM) is making technical amendments to the final regulations concerning the Combined Federal Campaign (CFC). These technical amendments correct the final rule issued on November 20, 2006, as revised on February 9, 2007, by making a change to the eligibility criteria and making several administrative changes brought to OPM's attention to other sections.

DATES: This technical amendment is effective on February 14, 2008.

FOR FURTHER INFORMATION CONTACT: Mark W. Lambert by telephone at (202) 606-2564; by Fax at (202) 606-5056; or by e-mail at cfc@opm.gov.

SUPPLEMENTARY INFORMATION: In the final regulations issued on November 20, 2006, as revised on February 9, 2007, OPM included what it deemed was a clarification to the 1995 regulatory eligibility requirement contained in 5 CFR 950.202(b). OPM clarified the regulation by stating specifically that only public charities, as defined by the Internal Revenue Service, were allowed to participate in the CFC. The clarification meant that private foundations were not eligible to participate in the CFC even though some had participated for years. In a recent court decision, the United States District Court for the District of Columbia invalidated OPM's clarification pertaining to private foundations. As a result, OPM is amending 5 CFR 950.202(b) to remove the reference to public charities from the requirement. OPM is also taking this opportunity to make three other administrative technical amendments to 5 CFR 950.101, 950.105(c)(3), and 950.105(d)(9). In 5 CFR 950.101, OPM is amending the definition of Domestic Area to include the Commonwealth of Northern Mariana Islands, American Samoa, and Guam to be consistent with the addition of these U.S. territories to 5 CFR 950.204(b)(2)(iii) in the November 20, 2006, changes to the CFC regulations. In 5 CFR 950.105(c)(3), OPM is removing a reference to provision 950.403 since it no longer exists after the changes made on November 20, 2006. In 5 CFR 950.105(d)(9), OPM is removing the date for the submission of a campaign audit and adding a reference to OPM's calendar, which will include the date. This change is consistent with other changes made in the November 20, 2006, CFC regulations.

Regulatory Flexibility Act

I certify that this regulation will not have a significant economic impact on a substantial number of small entities. Charitable organizations applying to the CFC have an existing, independent obligation to comply with the eligibility and public accountability standards contained in current CFC regulations. These technical amendments will not cause any significant additional burden.

Executive Order 12866, Regulatory Review

This rule has been reviewed by the Office of Management and Budget in accordance with Executive Order 12866.

List of Subjects in 5 CFR Part 950

Administrative practice and procedures, Charitable contributions, Government employees, Military personnel, Nonprofit organizations, and Reporting and recordkeeping requirements.

U.S. Office of Personnel Management.
Linda M. Springer,
Director.

Accordingly, OPM amends 5 CFR part 950 as follows:

PART 950—SOLICITATION OF FEDERAL CIVILIAN AND UNIFORMED SERVICE PERSONNEL FOR CONTRIBUTIONS TO PRIVATE VOLUNTARY ORGANIZATIONS

1. The authority citation for part 950 continues to read as follows:

Authority: E.O. 12353 (March 23, 1982), 47 FR 12785 (March 25, 1982). 3 CFR, 1982 Comp., p. 139. E.O. 12404 (February 10, 1983), 48 FR 6685 (February 15, 1983), Pub. L. 100-202, and Public Law 102-393 (5 U.S.C. 1101 Note).

2. In § 950.101, revise the definition of Domestic Area to read as follows:

§ 950.101 Definitions.

* * * * *

Domestic Area means the several United States, the District of Columbia, the Commonwealth of Puerto Rico, the United States Virgin Islands, the Commonwealth of Northern Mariana Islands, American Samoa, and Guam.

* * * * *

3. In § 950.105, amend paragraph (c)(3) by removing the letter “s” from the end of the word “provisions” and removing the text ”§ 950.403 and” and revise paragraph (d)(9) to read as follows:

§ 950.105 Principal Combined Fund Organization (PCFO) responsibilities.

* * * * *

(d) * * *

(9) Submitting to the LFCC an audit of collections and disbursements for each campaign managed no later than a date to be determined by OPM in the year in which the last disbursement is made. The date will be part of the annual timetable issued by the Director under § 950.801(b). The audit must be performed by an independent certified public accountant in accordance with generally accepted auditing standards and OPM guidance.

* * * * *

4. Revise § 950.202(b) to read as follows:

§ 950.202 National/international eligibility requirements.

* * * * *

(b) Certify that it is an organization recognized by the Internal Revenue Service as tax exempt under 26 U.S.C. 501(c)(3) to which contributions are deductible under 26 U.S.C. § 170(c)(2). A copy of the letter(s) from the Internal Revenue Service granting tax exempt and public charity status must be included in the organization's application.

[FR Doc. E8-2794 Filed 2-13-08; 8:45 am]

BILLING CODE 6325-46-P